FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 26, 2019.

A. Federal Reserve Bank of Chicago (Colette A. Fried, Assistant Vice President) 230 South LaSalle Street, Chicago, Illinois 60690-1414:

1. Jessica M. Becker, Eden Prairie, Minnesota; Cordelia A. Cosgrove, Cedar Rapids, Iowa; Amy C. Cox, Doylestown, Pennsylvania; Andrew J. Erusha, Sheridan, Wyoming; Angela C. Erusha, Solon, Iowa; Bruce A. Erusha, Cedar Rapids, Iowa; Daniel M. Erusha, Portland, Oregon; James R. Erusha, Cedar Rapids, Iowa; Julie A. Erusha Trust, Julie A. Erusha, Sheridan, Wyoming, as trustee; Kimberly S. Erusha, Basking Ridge, New Jersey; Michael D. Erusha Trust, Michael D. Erusha, Sheridan, Wyoming, as trustee; The Owen N. Erusha Trust, D. Neil Erusha, Solon, Iowa, as Trustee; Patricia M. Erusha, Solon, Iowa; Robert C. Erusha II, Ellisville, Missouri; Gary L. Fattig, Chelsea, Iowa; Kathryn M. Fattig, Chelsea, Iowa; Robert L. Fattig, Searsboro, Iowa; Vicky K. Garnsey, Eagle, Colorado; Anne E. Juelsgaard, West Des Moines, Iowa; Dolores M. Kaiden, Cedar Rapids, Iowa; Karlene M. Lindseth, Eden Prairie, Minnesota; Krista M. Lindseth, Eden Prairie, Minnesota; Michael J. Lindseth, Eden Prairie, Minnesota; Nicole M. Lindseth, Eden Prairie, Minnesota; Gail M. Scott, Cambridge, Iowa; and Carolyn M. Tinkham, Cedar Rapids, Iowa; to join the Erusha Family Control Group and acquire voting shares of Solon Financial, Inc. and thereby indirectly acquire Solon State Bank, both of Solon, Iowa.

Board of Governors of the Federal Reserve System, March 6, 2019.
Yao-Chin Chao,
Assistant Secretary of the Board.

[FR Doc. 2019-04306 Filed 3-8-19; 8:45 am]

BILLING CODE P